DEPARTMENT OF TRANSPORTATION

Office of the Secretary

Aviation Proceedings, Agreements Filed the Week Ending November 8, 2008

The following Agreements were filed with the Department of Transportation under the Sections 412 and 414 of the Federal Aviation Act, as amended (49 U.S.C. 1383 and 1384) and procedures governing proceedings to enforce these provisions. Answers may be filed within 21 days after the filing of the application.

Docket Number: DOT-OST-2008-0332.

Date Filed: November 4, 2008.

Parties: Members of the International Air Transport Association.

Subject: TC2 Within Middle East, Resolutions and Specified Fares Tables, (Memo 0189)

Minutes: TC2 Within Middle East, (Memo 0190)

Intended Effective Date: 1 May 2009.

Docket Number: DOT-OST-2008-0325.

Date Filed: November 4, 2008.

Parties: Members of the International Air Transport Association.

Subject: TC2 Within Middle East, Special Passenger Amending Resolution, From Iran (IR) to (IQ), (Memo 0191)

Intended Effective Date: 12 November 2009.

Docket Number: DOT-OST-2008-0326.

Date Filed: November 4, 2008.

Parties: Members of the International Air Transport Association.

Subject: Technical Correction: Mail Vote 579—Resolution 010h, TC3 Special Passenger Amending Resolution, From Brunei Darussalam to Japan, (Memo 1245)

Intended effective date: 17 November 2008.

Docket Number: DOT-OST-2008-0327.

Date Filed: November 4, 2008.

Parties: Members of the International Air Transport Association.

Subject: TC23/123 Africa-South Asian Subcontinent, Resolutions and Specified Fares Tables, (Memo 0391)

Intended Effective Date: 1 April 2009.

Docket Number: DOT-OST-2008-0331.

Date Filed: November 4, 2008.

Parties: Members of the International Air Transport Association.

Subject: TC23/123 Africa-TC3 (except South West Pacific), Areawide Resolutions, (Memo 0393)

Intended Effective Date: 1 April 2009.

Docket Number: DOT-OST-2008-0334.

Date Filed: November 4, 2008.

Parties: Members of the International Air Transport Association.

Subject: TC23/123 Africa-Japan, Korea, Resolutions and Specified Fares Tables, (Memo 0394)

Minutes: TC23/123 Middle East, Africa-TC3 Minutes, (Memo 0395)

Technical Correction: TC23/123 Africa-Japan, Korea, Resolutions and Specified Fares Tables, (Memo 0396)

Intended Effective Date: 1 April 2009.

Docket Number: DOT-OST-2008-0335.

Date Filed: November 4, 2008.

Parties: Members of the International Air Transport Association.

Subject: TC23/123 Middle East-TC3 (except South West Pacific), Areawide Resolutions, (Memo 0393)

Minutes: TC23/123 Middle East, Africa-TC3 Minutes, (Memo 0397)

Intended Effective Date: 1 April 2009.

Docket Number: DOT-OST-2008-0336.

Date Filed: November 4, 2008.

Parties: Members of the International Air Transport Association.

Subject: TC23/123 Middle East-South Asian Subcontinent, Resolutions and Specified Fares Tables, (Memo 0394)

Minutes: TC23/123 Middle East, Africa-TC3 Minutes, (Memo 0397)

Intended Effective Date: 1 April 2009.

Docket Number: DOT-OST-2008-0337.

Date Filed: November 4, 2008.

Parties: Members of the International Air Transport Association.

Subject: TC23/123 Middle East-South East Asia, Resolutions and Specified Fares Tables, (Memo 0395)

Minutes: TC23/123 Middle East, Africa-TC3 Minutes, (Memo 0397)

Intended Effective Date: 1 April 2009.

Docket Number: DOT-OST-2008-0338.

Date Filed: November 4, 2008.

Parties: Members of the International Air Transport Association.

Subject: TC23/123 Middle East-Japan, Korea, Resolutions and Specified Fares Tables, (Memo 0396)

Minutes: TC23/123 Middle East, Africa-TC3 Minutes, (Memo 0397)

Intended Effective Date: 1 April 2009.

Renee V. Wright,
Program Manager, Docket Operations, Federal Register Liaison.

[FR Doc. E8-30931 Filed 12-29-08; 8:45 am]

BILLING CODE 4910-9X-P